DEPARTMENT OF ENERGY

Federal Energy Regulatory Commission

Combined Notice of Filings #1

Take notice that the Commission received the following electric corporate filings:

Docket Numbers: EC21-16-000.

Applicants: CPV Fairview, LLC, CPV Keenan II Renewable Energy Company, LLC, CPV Maryland, LLC, CPV Shore, LLC, CPV Towantic, LLC, CPV Valley, LLC.

Description: Application for Authorization Under Section 203 of the Federal Power Act of CPV Fairview, LLC, et. al.

Filed Date: 10/29/20.

Accession Number: 20201029-5276.

Comments Due: 5 p.m. ET 11/19/20.

Docket Numbers: EC21-17-000.

Applicants: Deuel Harvest Wind Energy LLC, SP Deuel Harvest Wind Energy Holdings, LLC.

Description: Application for Authorization Under Section 203 of the Federal Power Act of Deuel Harvest Wind Energy LLC, et. al.

Filed Date: 10/30/20.

Accession Number: 20201030-5430.

Comments Due: 5 p.m. ET 11/20/20.

Take notice that the Commission received the following electric rate filings:

Docket Numbers: ER10-1484-022; ER12-2381-008; ER13-1069-011.

Applicants: Shell Energy North America (US), L.P., MP2 Energy LLC, MP2 Energy NE LLC.

Description: Notice of Non-Material Change in Status of Shell Energy North America (US), L.P., et. al.

Filed Date: 10/29/20.

Accession Number: 20201029-5279.

Comments Due: 5 p.m. ET 11/19/20.

Docket Numbers: ER17-256-013; ER17-242-012; ER17-243-012; ER17-245-012; ER17-652-012.

Applicants: Darby Power, LLC, Gavin Power, LLC, Lawrenceburg Power, LLC, Lightstone Marketing LLC, Waterford Power, LLC.

Description: Notice of Non-Material Change in Status of Darby Power, LLC, et. al.

Filed Date: 10/30/20.

Accession Number: 20201030-5436.

Comments Due: 5 p.m. ET 11/20/20.

Docket Numbers: ER20-924-004.

Applicants: PacifiCorp.

Description: Compliance filing: OATT Queue Reform—Directive 10/5/2020 to be effective 4/1/2020.

Filed Date: 11/3/20.

Accession Number: 20201103-5054.

Comments Due: 5 p.m. ET 11/24/20.

Docket Numbers: ER20-1851-002.

Applicants: Whitetail Solar 3, LLC.

Description: Tariff Amendment: Response to Deficiency Letter in Docket ER20-1851 to be effective 7/18/2020.

Filed Date: 11/3/20.

Accession Number: 20201103-5000.

Comments Due: 5 p.m. ET 11/12/20.

Docket Numbers: ER20-2451-001.

Applicants: Basin Electric Power Cooperative.

Description: Compliance filing: Basin Electric Compliance Filing in Docket No. ER20-2451 to be effective 9/16/2020.

Filed Date: 11/3/20.

Accession Number: 20201103-5106.

Comments Due: 5 p.m. ET 11/24/20.

Docket Numbers: ER20-2590-000.

Applicants: Basin Electric Power Cooperative.

Description: Supplement to July 31, 2020 Market Based Rate Application of Basin Electric Power Cooperative.

Filed Date: 10/30/20.

Accession Number: 20201030-5416.

Comments Due: 5 p.m. ET 11/20/20.

Docket Numbers: ER20-2722-001.

Applicants: CO Buffalo Flats, LLC.

Description: Notice of Non-Material Change in Status of CO Buffalo Flats, LLC.

Filed Date: 10/30/20.

Accession Number: 20201030-5437.

Comments Due: 5 p.m. ET 11/20/20.

Docket Numbers: ER20-2916-001.

Applicants: Alabama Power Company.

Description: Tariff Amendment: Amendment to Bird Dog Solar LGIA Termination Filing to be effective 9/18/2020.

Filed Date: 11/2/20.

Accession Number: 20201102-5165.

Comments Due: 5 p.m. ET 11/23/20.

Docket Numbers: ER21-82-001.

Applicants: Soldier Creek Wind, LLC.

Description: Tariff Amendment: Amendment to Soldier Creek Wind, LLC & Irish Creek Wind SIFCA to be effective 10/24/2020.

Filed Date: 11/3/20.

Accession Number: 20201103-5113.

Comments Due: 5 p.m. ET 11/24/20.

Docket Numbers: ER21-304-000.

Applicants: Cherokee County Cogeneration Partners, LLC.

Description: § 205(d) Rate Filing: Reactive Power Rate Schedule Filing to be effective 1/1/2021.

Filed Date: 11/2/20.

Accession Number: 20201102-5171.

Comments Due: 5 p.m. ET 11/23/20.

Docket Numbers: ER21-305-000

Applicants: Duke Energy Carolinas, LLC.

Description: § 205(d) Rate Filing: DEF Schedule 2 Revisions—Removal of Avon Park Units 1 and 2 to be effective 11/1/2020.

Filed Date: 11/2/20.

Accession Number: 20201102-5185.

Comments Due: 5 p.m. ET 11/23/20.

Docket Numbers: ER21-306-000.

Applicants: PJM Interconnection, L.L.C.

Description: § 205(d) Rate Filing: Original WMPA, Service Agreement No. 5841; Queue No. AF2-151 to be effective 10/9/2020.

Filed Date: 11/3/20.

Accession Number: 20201103-5009.

Comments Due: 5 p.m. ET 11/24/20.

Docket Numbers: ER21-308-000.

Applicants: Southwest Power Pool, Inc.

Description: § 205(d) Rate Filing: 3246R2 Tenaska Power/Montana-Dakota Utilities Att AO Cancel to be effective 10/1/2020.

Filed Date: 11/3/20.

Accession Number: 20201103-5039.

Comments Due: 5 p.m. ET 11/24/20.

Docket Numbers: ER21-309-000.

Applicants: Entergy Arkansas, LLC, Entergy Louisiana, LLC, Entergy Mississippi, LLC, Entergy New Orleans, LLC, Entergy Texas, Inc.

Description: Entergy Services, LLC, on behalf of the Entergy Operating Companies, submits a depreciation analysis and updated depreciation rates for Transmission Plant and General Plant.

Filed Date: 10/30/20.

Accession Number: 20201030-5427.

Comments Due: 5 p.m. ET 11/20/20.

Docket Numbers: ER21-310-000.

Applicants: Startrans IO, LLC.

Description: § 205(d) Rate Filing: TRBAA 2021 Update to be effective 1/1/2021.

Filed Date: 11/3/20.

Accession Number: 20201103-5055.

Comments Due: 5 p.m. ET 11/24/20.

Docket Numbers: ER21-311-000.

Applicants: Green Mountain Power Corporation.

Description: Order No. 864 Compliance Filing of Green Mountain Power Corporation.

Filed Date: 10/30/20.

Accession Number: 20201030-5428.

Comments Due: 5 p.m. ET 11/20/20.

Docket Numbers: ER21-312-000.

Applicants: PacifiCorp.

Description: § 205(d) Rate Filing: OATT Reconciliation (Second) to be effective 6/27/2020.

Filed Date: 11/3/20.

Accession Number: 20201103-5063.

Comments Due: 5 p.m. ET 11/24/20.

Docket Numbers: ER21-313-000.

Applicants: GridLiance West LLC.

Description: § 205(d) Rate Filing: GLW TRBAA 2021 Annual Update Filing to be effective 1/1/2021.

Filed Date: 11/3/20.

Accession Number: 20201103-5112.

Comments Due: 5 p.m. ET 11/24/20.

Take notice that the Commission received the following electric securities filings:

Docket Numbers: ES21-9-000.

Applicants: Altavista Solar, LLC.

Description: Application Under Section 204 of the Federal Power Act for Authorization to Issue Securities for Altavista Solar, LLC.

Filed Date: 10/29/20.

Accession Number: 20201029-5278.

Comments Due: 5 p.m. ET 11/19/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2020.
Nathaniel J. Davis, Sr.,
Deputy Secretary.

[FR Doc. 2020-24864 Filed 11-9-20; 8:45 am]

BILLING CODE 6717-01-P